DEPARTMENT OF JUSTICE

Notice of Lodging of Consent Decree Under the Clean Air Act, Sections 113(b) and 304(a), 42 U.S.C. 7413(b), 7604(a)

Notice is hereby given that on July 13, 2009, a proposed Second Amendment Consent Decree in United States of America; Commonwealth of Pennsylvania; City of Philadelphia; State of Oklahoma; and State of Ohio v. Sunoco, Inc., Civil Action 05-02866, was lodged with the United States District Court for the Eastern District of Pennsylvania.

This Second Amendment to the Consent Decree amends the Consent Decree entered by the Court on March 20, 2006 as well as the First Amendment to the Consent Decree entered by the Court on June 3, 2009. Specifically, the Second Amendment changes the date of completion of installation of pollution control equipment from June 2013 to June 2015. The second Amendment requires Sunoco to perform other pollution control measures in the interim time period, including lowering emissions limits and installing controls on other equipment to achieve greater reduction of emissions.

The Department of Justice will receive for a period of 30 days from the date of this publication comments relating to the Amended Consent Decree. Comments should be addressed to the Assistant Attorney General, Environment and Natural Resources Division, and either e-mailed to pubcomment-ees.enrd@usdoj.gov or mailed to P.O. Box 7611, U.S. Department of Justice, Washington, DC 20044-7611, and should refer to United States of America; Commonwealth of Pennsylvania; City of Philadelphia; State of Oklahoma; and State of Ohio v. Sunoco, Inc., Civil Action 05-02866, D.J. Ref. 90-5-2-1-1744/1.

The Amended Consent Decree may be examined at the Office of the United States Attorney, Zane D. Memeger, 615 Chestnut Street, Ste. 1250, Philadelphia, PA 19106, (215) 861-8200.

During the public comment period, the consent decree may also be examined on the following Department of Justice Web site, http://www.usdoj.gov/enrd/Consent_Decrees.html. A copy of the Amended Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $6.75 (25 cents per page reproduction cost) payable to the U.S. Treasury or, if by email or fax, forward a check in that amount to the Consent Decree Library at the stated address.

Maureen M. Katz,
Assistant Section Chief, Environmental Enforcement Section, Environment and Natural Resources Division.

[FR Doc. 2011-18363 Filed 7-20-11; 8:45 am]

BILLING CODE 4410-15-P